DEPARTMENT OF AGRICULTURE

Forest Service

Transfer of Administrative Jurisdiction: Fort Leonard Wood Military Reservation Interchange, Mark Twain National Forest, MO

AGENCY: Forest Service, USDA.

ACTION: Notice of land interchange.

SUMMARY: On June 18, 2001, and June 29, 2001, respectively, the Secretary of the Army and the Secretary of Agriculture signed a joint interchange order authorizing the transfer of administrative jurisdiction from the Department of Agriculture to the Department of the Army for 9,990 acres, more or less (Exhibit B), lying within the Fort Leonard Wood Military Reservation and the Mark Twain National Forest, Pulaski County, Missouri. Furthermore, the order transfers from the Department of the Army to the Department of Agriculture for inclusion in the Mark Twain National Forest 1,819 acres, more or less (Exhibit A), within the boundaries of the Mark Twain National Forest, Pulaski and Laclede Counties, Missouri. At this time, however, only 1,769 acres, more or less, are being transferred to the Department of Agriculture, Forest Service, and 50 acres are being retained under the jurisdiction of the Army. These 50 acres (Exhibit C) have been identified as possibly containing ordnance, explosives, or other hazardous materials and will not be transferred until necessary response actions have been completed as acceptable to the Department of Agriculture, Forest Service. Upon completion of the environmental response activities, as agreed by the Army and the Forest Service, the Forest Service will publish a notice in the Federal Register that the lands described in Exhibit C are deemed transferred to the jurisdiction of the Secretary of Agriculture as provided in the joint interchange order. Copies of the joint order, as signed, and Exhibits A, B and C, which describe the lands therein being conveyed and those lands excluded from jurisdictional change to the Forest Service until completion of investigation and remediation by the Army, are set out at the end of this notice.

DATES: The 45-day Congressional oversight requirement of the Act of July 26, 1956 (70 Stat. 656; 16 U.S.C. 505a, 505b) has been met. The order is effective September 12, 2001.

ADDRESSES: Copies of the maps showing the lands included in this joint interchange are on file and available for public inspection in the Office of the Director, Lands Staff, 4th Floor—South, Sidney R. Yates Federal Building, Forest Service, USDA, 201 14th Street, SW., Washington, DC 20250, between the hours of 8:30 a.m. and 4:30 p.m. on business days. Those wishing to inspect the maps are encouraged to call ahead to (202) 205-1248 to facilitate entry into the building.

FOR FURTHER INFORMATION CONTACT: David M. Sherman, Lands Staff, Forest Service, USDA, P.O. Box 96090, Washington, DC 20090-6090, Telephone: (202) 205-1362.

Dated: September 5, 2001.
James R. Furnish,
Deputy Chief for National Forest System.

Department of the Army

Department of Agriculture

Fort Leonard Wood, Missouri—Joint Order Interchanging Administrative Jurisdiction of Department of the Army Lands and National Forest System Lands

By virtue of the authority vested in the Secretary of the Army and the Secretary of Agriculture by the Act of July 26, 1956, (70 Stat. 656; 16 U.S.C. 505a, 505b), it is ordered as follows:

1. The lands under the jurisdiction of the Department of the Army described in Exhibit A and shown on a map on file and available for public inspection in the Office of the Chief, U.S. Department of Agriculture (USDA), Forest Service, Washington, DC, which lie within the boundary of Fort Leonard Wood Military Reservation, Missouri, are hereby transferred from the jurisdiction of the Secretary of the Army to the jurisdiction of the Secretary of Agriculture, subject to outstanding rights or interests of record.

2. The lands under the jurisdiction of the USDA Forest Service described in Exhibit B and shown on a map on file and available for public inspection in the office of the Chief, USDA Forest Service, Washington, DC, which lie within the Mark Twain National Forest, Missouri, are hereby transferred from the jurisdiction of the Secretary of Agriculture to the jurisdiction of the Secretary of the Army, subject to outstanding rights or interests of record.

3. All lands described in Exhibit C that have been identified as possibly containing ordnance, explosives, or other hazardous materials will be retained under Army jurisdiction until necessary response actions are completed as acceptable to the USDA Forest Service. Upon completion of the environmental response activities, as agreed upon by the Army and the Forest Service pursuant to a Memorandum of Understanding dated May 23, 2001 and June 6, 2001, the Forest Service shall publish a notice in the Federal Register that the lands described in Exhibit C are deemed transferred to the jurisdiction of the Secretary of Agriculture as provided in this Joint Interchange Order.

4. Subject to the condition in Paragraph 3 and pursuant to section 2 of the aforementioned Act of July 26, 1956, the National Forest System lands transferred to the Secretary of Army by this Joint Interchange Order, are hereby subject only to the laws applicable to the Department of the Army lands comprising Fort Leonard Wood Military Reservation, Missouri. The Department of the Army lands transferred to the Secretary of Agriculture by this order are hereafter subject only to the laws applicable to lands acquired under the Act of March 1, 1911 (36 Stat. 961), as amended. Subject to the condition in Paragraph 3, the boundary of Fort Leonard Wood Military Reservation is hereby adjusted to exclude all of the lands transferred to the Secretary of Agriculture and include all lands received by the Secretary of Army, subject to outstanding rights or interests of record. Also subject to paragraph 3, pursuant to section 11 of the Weeks Act (16 U.S.C. 521), the boundary of the Mark Twain National Forest is hereby modified to include those lands transferred from the Secretary of the Army to the Secretary of Agriculture.

5. Any environmental liability created by the Department of the Army's use of the lands described in Exhibits A, and B, and C shall be the Army's sole responsibility as provided for in the Memorandum of Understanding entered into by the Department of the Army and the USDA Forest Service and signed by each on May 23, 2001 and June 6, 2001, respectively. After the effective date of this Joint Interchange Order, the Department of the Army shall remain responsible for the response to any ordnance, explosives, hazardous substances, or pollutants or contaminants discovered on all lands described in Exhibits A and B that are the result of past Army operations on those lands or that occurred during the Army's administration of those lands.

This Joint Interchange Order will be effective as of the date of publication in the Federal Register.

Dated: June 18, 2001.

Thomas E. White,

Secretary of the Army.

Dated: June 29, 2001.

Ann M. Veneman,

Secretary of Agriculture.

Exhibit A—Department of Army Lands To Be Transferred to Mark Twain National Forest

Township 35 North, Range 10 West, 5th Principal Meridian:

Section 21: West ½ lying east of the Big Piney River and west of State Highway “J”.

Containing 182.38 acres, more or less.

Section 28: North ½ lying east of the Big Piney River and west of State Highway “J”.

Containing 164.40 acres, more or less.

Township 34 North, Range 12 West, 5th Principal Meridian:

Section 3: Southeast ¼ of the Southeast ¼ except approximately 8 acres north and west of the road crossing the northwest corner of the SESE.

Containing 32.00 acres, more or less.

Section 10: East ½ of the East ½

Containing 160.00 acres, more or less.

Section 16: East ½

Containing 320.00 acres, more or less.

Section 21: East ½

Containing 320.00 acres, more or less.

Section 28: East ½

Containing 320.00 acres, more or less.

Section 33: East ½

Containing 320.00 acres, more or less.

Containing in the aggregate 1818.78 acres, more or less.

Exhibit B—Forest Service Lands To Be Transferred to Fort Leonard Wood

Township 35 North, Range 11 West, 5th Principal Meridian:

Section 1: West ½ of the West ½ lying west of Decker Ridge Road.

Containing an estimated 73.17 acres, more or less.

Section 12: West ½ of the Northwest ¼ lying west of Decker Ridge Road.

Containing an estimated 43.04 acres, more or less.

Also the West ½ of the Southeast ¼, and the Southeast ¼ of the Southeast ¼.

Containing 125.31 acres, more or less.

Section 6: Entire section.

Containing 655.69 acres, more or less.

Section 7: Entire section.

Containing 646.00 acres, more or less.

Section 18: Entire section.

Containing 644.20 acres, more or less.

Section 19: Entire section.

Containing 648.94 acres, more or less.

Section 30: Entire section.

Containing 647.30 acres, more or less.

Township 36 North, Range 12 West, 5th Principal Meridian:

Section 36: That part of the South Half of the Southeast Quarter described as follows: Commencing at the Township Corner to Townships 35 and 36 North, Ranges 11 and 12 West, thence North 79° West 1.9 chains to the true point of beginning; Thence North 79° West 38.82 chains to the intersection with the North-South centerline of Section 36, Township 36 North, Range 12 West; Thence South along said line 7.03 chains to the South Quarter Corner of Section 36; Thence South 88°58′ East along the Township Line 38.00 chains; Thence North 15°30′ East 0.36 chains to the point of beginning.

Containing 14.00 acres, more or less.

Township 35 North, Range 12 West, 5th Principal Meridian:

Section 1: Entire section except 0.73 acres in the southwest quarter described as follows: Commencing at the southwest corner of the southwest quarter of said Section 1; Thence along the west boundary of said southwest quarter N 01°09′E, 627.2 Feet to the Point of Beginning;

Thence S 88°45′E, 174.8 Feet;

Thence N 01°15′E, 190.0 Feet;

Thence N 88°45′W, 126.4 Feet;

Thence S 39°18′W, 78.9 Feet to west boundary;

Thence S 01°09′W 127.9, Feet along said boundary to the Point of Beginning.

Containing 647.34 acres, more or less.

Section 12: Entire section except 1 acre cemetery in the Northwest ¼ of the Southwest ¼.

Containing 639.00 acres, more or less.

Section 13: East ½ east of Roubidoux Creek

Containing 246.77 acres, more or less.

Section 24: East ½, and the East ½ of the Southwest ¼.

Containing 400.00 acres, more or less.

Section 25: Entire section.

Containing 640.00 acres, more or less.

Section 26: East ½ of the East ½.

Containing 160.00 acres, more or less.

Section 35: East ½, the East ½ of the Southwest ¼, the Southwest ¼ of the Southwest ¼, and the Southeast ¼ of the Northwest ¼.

Containing 480.00 acres, more or less.

Section 36: North ½, the Southwest ¼, and the West ½ of the Southeast ¼.

Containing 554.62 acres, more or less.

Township 34 North, Range 42 West, 5th Principal Meridian:

Section 1: All of Lots 1 through 6 and the West ½ of Lot 7 of the Northeast ¼, and all of Lots 1 through 7 of the Northwest ¼.

Containing 1,046.54 acres, more or less.

Section 2: All of Lots 1 through 7 of the Northeast ¼, and all of Lots 1 through 7 of the Northwest ¼.

Containing 1,108.01 acres, more or less.

Section 3: All of the Northeast ¼ lying east of Roubidoux Creek (including all of the East ½ of Lots 6 and 7).

Containing an estimated 570.00 acres, more or less.

Containing in the aggregate 9,989.93 acres, more or less.

Exhibit C—Department of Army Lands To Be Excluded From Jurisdictional Change to the Forest Service Until Completion of Investigation and Remediation by the Army

Township 34 North, Range 12 West, 5th Principal Meridian:

Section 33: a portion of the East ½ of the East ½ of the Northeast ¼

Section 28: a portion of the East ½ of the East ½ of the Southeast ¼

Specifically located within the following longitude and latitude coordinates:

Northwest corner, North 37°37.299, West 92°15.123

Northeast corner North 37°37.301, West 92°14.975

Southwest corner North 37°36.810, West 92°15.123

Southeast corner North 37°36.809, West 92°14.975

Containing 50 acres more or less.

[FR Doc. 01-22846 Filed 9-11-01; 8:45 am]

BILLING CODE 3410-11-P